DEPARTMENT OF COMMERCE

International Trade Administration

[A-583-833]

Certain Polyester Staple Fiber From Taiwan; Notice of Extension of Time Limits for Preliminary Results of Antidumping Duty Administrative Review

AGENCY: Import Administration, International Trade Administration, Department of Commerce.

DATES: Effective Date: January 15, 2008.

FOR FURTHER INFORMATION CONTACT: Thomas Schauer, AD/CVD Operations, Office 5, Import Administration, International Trade Administration, U.S. Department of Commerce, 14th Street and Constitution Avenue, NW., Washington, DC 20230; telephone: (202) 482-0410.

SUPPLEMENTARY INFORMATION:

Background

On June 29, 2007, the Department of Commerce (the Department) published a notice of initiation of administrative review of the antidumping duty order on certain polyester stable fiber from Taiwan. See Initiation of Antidumping and Countervailing Duty Administrative Reviews, 72 FR 35690 (June 29, 2007). The period of review is May 1, 2006, through April 30, 2007, and the preliminary results are currently due no later than January 31, 2008. The review covers one producer/exporter of the subject merchandise to the United States.

Extension of Time Limit for Preliminary Results

Pursuant to section 751(a)(3)(A) of Tariff Act of 1930, as amended (the Act), the Department shall make a preliminary determination in an administrative review of an antidumping order within 245 days after the last day of the anniversary month of the date of publication of the order. Section 751(a)(3)(A) of the Act provides further that the Department may extend the 245-day period to 365 days if it determines that it is not practicable to complete the review within the foregoing time period. For this administrative review of the antidumping duty order on polyester staple fiber from Taiwan, the Department requires additional time to analyze a number of complex cost-accounting issues such as determining how to value affiliated-party inputs.

Therefore, we are extending the deadline for completing the preliminary results until April 15, 2008, which is 320 days from the last day of the anniversary month of the date of publication of the order. The deadline for the final results of the review continues to be 120 days after the publication of the preliminary results.

This extension notice is published in accordance with sections 751(a)(3)(A) and 777(i)(I) of the Act.

Dated: January 9, 2008.
Stephen J. Claeys,
Deputy Assistant Secretary for Import Administration.

[FR Doc. E8-550 Filed 1-14-08; 8:45 am]

BILLING CODE 3510-DS-P